DEPARTMENT OF AGRICULTURE

Submission for OMB Review; Comment Request

July 15, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Regulations Governing Inspection, Certification, and Standards for Fresh Fruit, Vegetables and Other Products—Audit Services.

OMB Control Number: 0581-NEW.

Summary of Collection: The Agricultural Marketing Act of 1946 as amended 7 U.S.C. 1621 et seq. authorizes the Secretary to inspect and certify the quality of agricultural products and collect such fees as reasonable to cover the cost of services rendered. The Fresh Products Branch provides nationwide audit and inspection services for fresh fruits, vegetables, and other products to growers, shippers, importers, processors, sellers, buyers, and other financially interested parties on a “user fee” basis. The use of these services is voluntary and is made available only upon request.

Need and Use of the Information: Information is needed to provide audit services. Agricultural Marketing Service will collect this information using forms FV-237A “Request for Audit Services”, FV-651 “Agreement for Participation in Audit Verification Programs” and FV-652 “Logo Use Request for Audit Programs.” This information includes: Name and location of the person or company requesting the audit, the type and location of the product to be audited, the type of audit being requested and any information that will identify the product and/or the location(s) to be covered by the audit. As part of the audit process, an auditee's documentation must be made available to the Fresh Products Branch personnel for review to show conformance to the specific audit program.

Description of Respondents: Farms; Business or other for-profit; Not-for-profit Institutions and State, Local or Tribal Government.

Number of Respondents: 2,000.

Frequency of Responses: Reporting: On occasion.

Total Burden Hours: 17,080.

Charlene Parker,
Departmental Information Collection Clearance Officer.

[FR Doc. E9-17181 Filed 7-17-09; 8:45 am]

BILLING CODE 3410-02-P